DEPARTMENT OF JUSTICE

Notice of Lodging of Consent Decree Pursuant to the Federal Insecticide, Fungicide, and Rodenticide Act and the Comprehensive Environmental Response, Compensation, and Liability Act

In accordance with 28 CFR 50.7 and 42 U.S.C. 9622(i), notice is hereby given that on August 21, 2001, a Consent Decree was lodged with the United States District Court for the District of Puerto Rico in United States v. Tropical Fruit, S.E., et al., Civil Action No. 97-1442-DRD. In the complaint the United States, on behalf of the U.S. Environmental Protection Agency (“EPA”), alleged that the Defendants violated the Federal Insecticide, Fungicide, and Rodenticide Act (“FIFRA”), 7 U.S.C. 136 et seq., and the Comprehensive Environmental Response, Compensation, and Liability Act (“CERCLA”), 42 U.S.C. 9601, et seq., at a Farm located in Rural Zone Boca, Guayanilla, Puerto Rico. The United States' complaint alleged, inter alia, that Defendants applied pesticides to agricultural crops, including mangos and bananas, located on the Farm in such a manner that the pesticides drifted or otherwise migrated beyond the boundaries of Defendants' Farm in contravention of the pesticide label requirements.

The Consent Decree requires Defendants to pay $35,000 in penalties and CERCLA response costs and to comply with extensive injunctive relief measures, including the creation of a buffer zone on the northern and a portion of the western perimeter of the Farm which will vary in width up to 173 feet. In the areas of the Farm adjacent to residences which are in mango production, Tropical Fruit will remove, and at its option, relocate, mango trees in a 173 foot buffer zone area, plant plantains, and will also ultimately completely cease spraying pesticides in this 173 foot buffer zone. In the areas of the Farm that are not adjacent to residences and which are in mango production, Tropical Fruit will ultimately completely cease spraying pesticides in a 50-75 foot buffer zone area closest to the border of the Farm and will apply pesticides only through hand spraying equipment in the remaining approximately 100-123 feet of this buffer zone. In the areas of the Farm which are in banana production, the Farm will create a 50-125 buffer zone in which it will ultimately completely cease spraying pesticides. Tropical Fruit has also agreed, among other things, to (i) plant a vegetative barrier comprised of neem trees (in some places two rows of neem trees and in other areas, one row) along nearly the entire perimeter of the buffer zone; (ii) observe wind speed restrictions when spraying pesticides; (iii) purchase and use an improved anemometer (to measure wind speed) that will allow for instant communication between the anemometer and the tractor spraying the pesticides; (iv) employ an individual to monitor pesticide hand-spraying operations for three years; and (v) utilize drift retardants when applying pesticides.

The Department of Justice will receive comments relating to the proposed Consent Decree for a period of thirty (30) days from the date of this publication. Comments should be addressed to the Assistant Attorney General, Environment and Natural Resources Division, Department of Justice, P.O. Box 7611, Washington, DC 20044, and should refer to United States v. Tropical Fruit, S.E., et al., D.J. Ref. 1-1700z.

The proposed consent decree may be examined at the office of the United States Attorney, Federal Building Room 452, Carlos Chardon Avenue, Hato Rey, PR 00918, and at two offices of the Environmental Protection Agency, Region II: EPA, 290 Broadway, 17th floor, New York, NY 10007-1866 or EPA, Carribean Environmental Protection Division, Centro Europa Building, Suite 417, 1492 Ponce De Leon, Stop 22, Santurce, Puerto Rico, 09907-4127. A copy of the proposed Consent Decree may also be obtained by mail from the Department of Justice Consent Decree Library, P.O. Box 7611, Washington, DC 20044. In requesting a copy, please enclose a check (there is a 25 cent per page reproduction cost) in the amount of $11.75 payable to the “Consent Decree Library.”

Walker Smith,
Deputy Chief, Environmental Enforcement Section, Environment & Natural Resources Division.

[FR Doc. 01-21554 Filed 8-24-01; 8:45 am]

BILLING CODE 4410-15-M